NATIONAL AERONAUTICS AND SPACE ADMINISTRATION

[Notice (14-134)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations Committee of the NASA Advisory Council.

DATES: Monday, January 12, 2015, 1:00 p.m. to 5:30 p.m.; and Tuesday, January 13, 2015, 9:30 a.m. to 5:30 p.m., Local Time.

ADDRESSES: NASA Stennis Space Center, Roy S. Estess Building, Logtown Conference Room 11161 (January 12) and Conference Center Room 107 (January 13), Stennis Space Center, MS 39529-6000.

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. On January 12, any interested person may dial the toll free access number 1-800-988-9663 or toll access number 1-517-308-9483, and then the numeric participant passcode: 8015, to participate in this meeting by telephone. The WebEx link is https://nasa.webex.com/, the meeting number is 994 136 621, and the password is ScienceHEO@Jan12 (case sensitive).

On January 13, any interested person may dial the toll free access number 1-888-469-0647 or toll access number 1-203-827-7016, and then the numeric participant passcode: 5106584 followed by the # sign, to participate in this meeting by telephone. The WebEx link is https://nasa.webex.com/, the meeting number is 992 536 249, and the password is Exploration@2015 (case sensitive).

The agenda for the meeting includes the following topics:

—Joint Session with Science Committee of the NASA Advisory Council

—NASA Human Exploration and Operations Mission Directorate/NASA Science Mission Directorate Joint Activities

—Evolvable Mars Campaign

—Status of the NASA Human Exploration Operations Mission Directorate

—Asteroid Redirect Mission Update

—Status of the Exploration Systems Development Division

—Status of the International Space Station

—Lessons Learned From Commercial Orbital Transportation Services

Attendees will be required to sign a register and comply with NASA Stennis Space Center security requirements, including the presentation of a valid picture ID before receiving access to NASA Stennis Space Center. Due to the Real ID Act, Public Law 109-13, any attendees with drivers licenses issued from non-compliant states must present a second form of ID [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Louisiana, Maine, Minnesota, New York, Oklahoma and Washington. Foreign nationals attending this meeting will be required to provide a copy of their passport and visa in addition to providing the following information no less than 20 days prior to the meeting: full name; home address; gender; citizenship; date/city/country of birth; title, position or duties; visa type, number and expiration date; passport number, expiration date and country of issue; and employer/affiliation information (name of institution, address, country, telephone, email, phone). Contact the International Visitor Coordinator, Mary Treat, at (228) 688-3916 for the specifics on any foreign national visitors. To expedite admittance, attendees with U.S. citizenship and Permanent Residents (green card holders) can provide identifying information 3 working days in advance by emailing the NASA Office of Communications at SSC-PAO@mail.nasa.gov. It is imperative that the meeting be held on these dates to accommodate the scheduling priorities of the key participants.

Patricia D. Rausch,
Advisory Committee Management Officer, National Aeronautics and Space Administration.

[FR Doc. 2014-29624 Filed 12-17-14; 8:45 am]

BILLING CODE 7510-13-P